PEACE CORPS

Submission for OMB Review; Request for Comments

AGENCY: Peace Corps.

ACTION: 60-Day notice and request for comments.

SUMMARY: The Peace Corps will be submitting the following information collection requests to the Office of Management and Budget (OMB) for revision of a currently approved information collection. In compliance with the Paperwork Reduction Act of 1995 (44 U.S.C. Chapter 35), the Peace Corps invites the general public to comment on the revision of a currently approved information collection OMB Control No. 0420-0510: Health History (PC-1789) and Report of Medical Examination (PC-1790 and PC-1790 S).

DATES: Comments must be submitted on or before November 14, 2011, 60 days from publication in the Federal Register.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: Title: Health History (PC-1789) and Report of Medical Examination (PC-1790 and PC-1790 S).

OMB Control Number: 0420-0510.

Type of Information Collection: Revision of a currently approved information collection.

Respondents' obligation to reply: Voluntary.

Burden to the public: The revised Health History (PC-1789) is expected to average 30 minutes per Candidate: with an expected 10,000 Candidates completing the form. This is a total average time burden cost of $95,050. We predict the Report of Medical Examinations (PC-1790 S and PC-1790) would each take an average of 45 minutes with 3800 Invitees required to undergo these exams (Candidates who have accepted an invitation to serve). Peace Corps is unable to accurately estimate how much of this expense will be borne by Candidates but we have made an estimate of about $228,800 for medical exams.

General description of collection: The Peace Corps Act requires that Volunteers receive health examinations prior to their service. The information collected is required for consideration for Peace Corps Volunteer service. The Health Status Review is used to review the medical history of individual applicants. The Candidate completes the Health History Form (PC-1789) and submits it to the Peace Corps for a preliminary review of their health history and self identified needs for medical support. If a Candidate is invited to serve, the Candidate is sent a Report of Medical Examination (PC-1790 S) and a Report of Dental Evaluation (PC-1790 Dental S) form to be completed by the Candidate and the Candidate's examining physician and dentist. The Health History form and the Report of Medical and Dental Exam forms are reviewed in the Peace Corps Office of Medical Services to ensure that the Candidate/Volunteer has the physical and mental capacity required of a Volunteer. At the Close of Service, a Volunteer is given a complete physical exam using Report of Medical Examination (PC-1790).

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on September 7, 2011.
Earl W. Yates,
Associate Director, Management.

[FR Doc. 2011-23472 Filed 9-13-11; 8:45 am]

BILLING CODE 6051-01-P